DEPARTMENT OF JUSTICE

Antitrust Division

Notice Pursuant to the National Cooperative Research and Production Act of 1993—Petroleum Environmental Research Forum (“PERF”) Project No. 2003-01, “Mercury Cooperative”

Notice is hereby given that, on February 9, 2005, pursuant to Section 6(a) of the National Cooperative Research and Production Act of 1993, 15 U.S.C. 4301 et seq. (“the Act”), Petroleum Environmental Research Forum (“PERF”) Project No. 2003-01, “Mercury Cooperative” has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identifies of the parties to the venture are: ExxonMobil Research and Engineering Company, Fairfax, VA; ChevronTexaco Energy Technology Company, Richmond, CA; ConocoPhillips Company, Bartlesville, OK; Natco Group, Houston, TX; and Unocal, Sugerland, TX. The general area of this project's planned activity is, through cooperative research efforts, to crate a forum for sharing information related to the management of mercury contained in crude oils and condensates, focusing on both upstream and downstream issues. The goal will be accomplished in a multi-day interdisciplinary workshop designed to address the operational, environmental, analytical, removal, and other various aspects related to mercury. Focus areas for additional leveraged research may also be identified.

Participation in this joint venture will remain open to qualified persons and organizations, and the participants intend to file additional written notifications disclosing all changes in membership or planned activities. Information regarding participation in this group research project may be obtained from Ms. Meredith Gustafsson, ExxonMobil Research and Engineering Company, 3225 Gallows Road, Fairfax, VA 22037, at (703) 846-4062.

Dorothy B. Fountain,
Deputy Director of Operations, Antitrust Division.

[FR Doc. 05-3924 Filed 2-28-05; 8:45 am]

BILLING CODE 4410-11-M